DEPARTMENT OF ENERGY

Federal Energy Regulatory Commission

[Docket No. CP01-15-000]

Northern Natural Gas Company; Notice of Request Under Blanket Authorization

October 24, 2000.

Take notice that on October 18, 2000, Northern Natural Gas Company (Northern), 1111 South 103rd Street, Omaha, Nebraska 68124-1000, filed in Docket No. CP01-15-000 a request pursuant to Sections 157.205 and 157.211 of the Commission's Regulations under the Natural Gas Act (18 CFR 157.205 and 157.211) for authorization to install a new delivery point in Cuming County, Nebraska in order to accommodate interruptible natural gas deliveries to West Point Dairy Products, Inc. (West Point Dairy) under Northern's blanket certificate issued in Docket No. CP82-401-000 pursuant to Section 7 of the Natural Gas Act, all as more fully set forth in the request which is on file with the Commission and open to public inspection. This filing may be viewed on the web at http://www.ferc.fed.us/online/rims.htm (call 202-208-2222 for assistance).

Northern states that West Point Dairy is currently served by UtiliCorp United Inc. (UCU), a local distribution company. Northern states that pursuant to Section 284.106 of the Commission's Regulations, Northern provided notice to UCU and the Nebraska Public Service Commission by sending a copy of the application, via FedX over-night delivery, on the same date that the application was filed with the Commission.

Northern states that the delivery point will consist of a side valve and tap in Section 26, Township 22 North, Range 6 East in Cuming County, Nebraska. Northern states that the facilities will be capable of delivering up to 200 MMbtu per day to West Point Dairy and estimates total annual deliveries of 52,000 MMbtu. Northern estimates that the delivery point will cost $7,000 and that West Point Dairy will reimburse Northern for the construction costs.

Northern states that the deliveries to West Point Dairy will be made pursuant to Northern's currently effective throughput service agreement and that the deliveries to West Point will not exceed the total volumes authorized prior to the request. Further, Northern asserts that it has sufficient capacity to accommodate the West Point Dairy volume without detriment or disadvantage to Northern's other customers.

Any questions regarding the application should be directed to Keith L. Petersen, Director, Certificates and Reporting, Northern Natural Gas Company, P.O. Box 3330, Omaha, Nebraska 68103-0330, at (402) 398-7421, FAX: (402) 398-7592, and e-mail: kpetersen@enron.com.

Any person or the Commission's staff may, within 45 day after issuance of the instant notice by the Commission, file pursuant to Rule 214 of the Commission's Procedural Rules (18 CFR 385.214) a motion to intervene or notice of intervention and pursuant to Section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to Section 7 of the Natural Gas Act. Beginning November 1, 2000, comments and protests may be filed electronically via the internet in lieu of paper. See 18 CFR 385.2001(a)(1)(iii) and the instructions on the Commission's web site at ­http://www.ferc.fed.us/efi/doorbell.htm.

David P. Boergers,
Secretary.

[FR Doc. 00-27775 Filed 10-27-00; 8:45 am]

BILLING CODE 6717-01-M